NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 15, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Application Details

1. Applicant: Jill Mikucki, Department of Microbiology, University of Tennessee, Knoxville, TN. Permit Application: 2014-014.

Activity for Which Permit is Requested: ASPA Entry; The applicants wish to access the Blood Falls outflow and subsurface brine conduit. They would use a mobile drill system and a small probe (Minimally Invasive Direct Glacier Exploration MIDGE) equipped with a camera to visualize the conduit. The applicant would collect biogeochemical samples to increase the body of knowledge on subglacial environments and aid in developing clean access methods. During the first field season, the applicant would familiarize themselves with the site and conduct only non-destructive and non-invasive sampling from the Blood Falls outflow. During the second field season, the applicant would use the drill and MIDGE probe to explore the Blood Falls crevasse and brine conduit. The instruments would penetrate approximately 50 meters and would not be near the glacier base or subglacial source of brine.

Results from these studies could help inform management of the Blood Falls ASPA. Clean access techniques would be used and drilling would not go as deep as the base of the glacier or the source of the brine.

Location: ASPA 172 Lower Taylor Glacier and Blood Falls, McMurdo Dry Valleys.

Dates: November 1, 2013 to February 15, 2015.

Nadene G. Kennedy,
Polar Coordination Specialist, Division of Polar Programs.

[FR Doc. 2013-22232 Filed 9-12-13; 8:45 am]

BILLING CODE 7555-01-P